NUCLEAR REGULATORY COMMISSION

[Docket Nos. 50-338 and 50-339; NRC-2012-0258; License Nos.: NPF-4 and NPF-7]

North Anna Power Station, Units 1 and 2, Virginia Electric and Power Company

AGENCY: Nuclear Regulatory Commission.

ACTION: Revised director's decision under 10 CFR 2.206; issuance.

SUMMARY: The U.S. Nuclear Regulatory Commission (NRC) is giving notice that the Director of the Office of Nuclear Reactor Regulation has issued a revised final Director's Decision (DD) with regard to a petition dated October 20, 2011, filed by Paul Gunter et al., herein referred to as “the petitioners.”

DATES: November 6, 2015.

ADDRESSES: Please refer to Docket ID NRC-2012-0258 when contacting the NRC about the availability of information regarding this document. You may obtain publicly-available information related to this document using any of the following methods:

• Federal Rulemaking Web site: Go to http://www.regulations.gov and search for Docket ID NRC-2012-0258. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced.

• NRC's PDR: You may examine and purchase copies of public documents at the NRC's PDR, Room O1-F21, One White Flint North, 11555 Rockville Pike, Rockville, Maryland 20852.

FOR FURTHER INFORMATION CONTACT: V. Sreenivas, Office of Nuclear Reactor Regulation, U.S. Nuclear Regulatory Commission, Washington, DC 20555-0001; telephone: 301-415-2597; email: V.Sreenivas@nrc.gov.

SUPPLEMENTARY INFORMATION: Notice is hereby given that the Director of the Office of Nuclear Reactor Regulation, has issued a revision to a Director's Decision (DD) dated August 21, 2015 (ADAMS Accession No. 15175A465), with regard to a petition dated October 20, 2011 (ADAMS Accession No. ML11293A116), filed by the petitioners. The petition was supplemented on November 2, 2011 (ADAMS Accession No. ML11308A027) and December 15, 2011 (ADAMS Accession No. ML12060A197). The petition concerns the operation of the North Anna Power Station, Units 1 and 2 (North Anna 1 and 2), by the Virginia Electric and Power Company (VEPCO or the licensee). The petition requested that the NRC suspend the operating licenses for North Anna 1 and 2, until the completion of a set of activities described in the petition. The petitioner also requested that a public meeting be held to discuss this matter in the Washington, DC area.

As the basis for the October 20, 2011, request, the petitioner raised several concerns, of which 12 were accepted for review by the NRC staff by letter dated March 16, 2012 (ADAMS Accession No. ML12060A090). These are summarized as follows:

(1) Prior to the approval of restart for North Anna 1 and 2, after the earthquake of August 23, 2011, VEPCO should be required to obtain a license amendment from the NRC that reanalyzes and reevaluates the plant's design basis for earthquakes and for associated necessary retrofits.

(2) Prior to the approval of restart for North Anna 1 and 2, after the earthquake of August 23, 2011, the licensee should be required to ensure that North Anna 1 and 2, are subjected to thorough inspections of the same level and rigor.

(3) The licensee should be required to reanalyze and reevaluate the North Anna Independent Spent Fuel Storage Installation (lSFSI) due to damage caused by the earthquake of August 23, 2011, and ensure that no threat is posed to public health and safety by its operation.

(4) The licensee should ensure the reliability and accuracy of the seismic instrumentation at North Anna 1 and 2.

(5) The NRC staff made hasty decisions about the restart of North Anna 1 and 2, and gave priority to economic considerations. The long-term action plan was not even complete before the NRC staff gave authorization to restart.

(6) Regulatory commitments are an inadequate regulatory tool for ensuring that the critical long-term tasks identified in the NRC staff's confirmatory action letter dated November 11, 2011, are completed.

(7) The licensee needs to address the possibility of both boildown and rapid draindown events at the North Anna 1 and 2, spent fuel pool (SFP).

(8) The long-term storage of spent fuel in the SFP at North Anna 1 and 2, and at the North Anna ISFSI poses challenges to the public health and safety.

(9) “Hardened on-site storage” strategies for spent fuel should be used at North Anna 1 and 2.

(10) Concerns exist about the response of North Anna 1 and 2, to a prolonged station blackout.

(11) The current emergency evacuation plans for North Anna 1 and 2, need to be revised to reflect the possible need to evacuate a larger area than that identified in the current emergency planning zone.

(12) Concerns exist about damage to the structural integrity of the spent fuel pool structure at North Anna 1 and 2, as represented on pages 41 and 42 of the NRC staff's technical evaluation for the restart of North Anna 1 and 2, dated November 11, 2011.

On December 12, 2012 and February 2, 2012, the petitioners and the licensee met with the NRC staff's petition review board (meeting transcripts under ADAMS Accession Nos. ML12033A025 and ML12047A240), regarding the petition. These meetings gave the petitioner and the licensee an opportunity to provide additional information and to clarify issues raised in the petition.

The NRC staff issued a partial DD on October 19, 2012 (ADAMS Accession No. ML12262A156). Twelve of the concerns were accepted for review by the NRC staff. As detailed in the partial DD, eight of these concerns were closed. The remaining four concerns accepted for review were identified as those that may take longer than the target timeframe for reaching a decision on a petition based on the fact they were undergoing NRC review as part of the agency's response to the Fukushima event in Japan.

Regarding the four remaining concerns, the NRC staff sent a copy of the proposed DD to the Petitioners and to the licensee for comment on April 17, 2015 (ADAMS Accession Nos. ML14311A616 and ML15061A133, respectively). The Petitioners provided comments in a response dated May 18, 2015 (ADAMS Accession No. ML15138A277) and the licensee provided comments in a response dated May 20, 2015 (ADAMS Accession No. ML15147A517). The comments and the NRC staff's response to them are included with this director's decision.

On August 21, 2015, the NRC issued a director's decision (ADAMS Accession No. ML15175A465). Subsequently, the NRC identified portions of the director's decision on the long-term storage of spent fuel in the SFP and ISFSI that required clarification. Accordingly, the decision's response to Concern 8 is revised to clarify the NRC's resolution of the concern.

The Director of the Office of Nuclear Reactor Regulation has determined that the request to suspend the operating licenses for North Anna 1 and 2, until the completion of a set of activities described in the petition, be partially granted and partially denied. The reasons for this decision are explained in the revised director's decision DD-15-09 pursuant to section 2.206 of title 10 of the Code of Federal Regulations (10 CFR) of the Commission's regulations.

The NRC will file a copy of the revised director's decision with the Secretary of the Commission for the Commission's review in accordance with 10 CFR 2.206. As provided for by this regulation, the director's decision will constitute the final action of the Commission 25 days after the date of the decision, unless the Commission, on its own motion, institutes a review of the director's decision in that time.

Dated at Rockville, Maryland, this 30th day of October, 2015.
For the Nuclear Regulatory Commission.
William M. Dean,
Director, Office of Nuclear Reactor Regulation.

[FR Doc. 2015-28361 Filed 11-5-15; 8:45 am]

BILLING CODE 7590-01-P